DEPARTMENT OF COMMERCE

Patent and Trademark Office

Agency Information Collection Activities; Submission to the Office of Management and Budget (OMB) for Review and Approval; Comment Request; Patent Prosecution Highway (PPH) Program

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on May 14, 2024 during a 60-day comment period (89 FR 41948). This notice allows for an additional 30 days for public comment.

Agency: United States Patent and Trademark Office, Department of Commerce.

Title: Patent Prosecution Highway (PPH) Program.

OMB Control Number: 0651-0058.

Needs and Uses: The Patent Prosecution Highway (PPH) is a framework in which an application whose claims have been determined to be patentable by the Office of Earlier Examination (OEE) is eligible to go through an accelerated examination in an Office of Later Examination (OLE) with a simple procedure upon an applicant's request. By leveraging the search and examination work product of the OEE, PPH programs (1) deliver lower prosecution costs, (2) support applicants in their efforts to obtain stable patent rights efficiently around the world, and (3) reduce the search and examination burden, while improving the examination quality, of participating patent offices.

Initially, the PPH programs were limited to the utilization of search and examination results of national applications between cross filings under the Paris Convention. Later, the potential of the PPH was greatly expanded by the Patent Cooperation Treaty (PCT)-PPH programs, which permit participating patent offices to draw upon the positive results of the PCT work product from another participating office. PCT-PPH programs use international written opinions and international preliminary examination reports developed within the framework of the PCT, thereby making the PPH available to a larger number of applicants. Information collected for the PCT is approved under the USPTO information collection 0651-0021 (Patent Cooperation Treaty).

More recently, the USPTO and several other offices acted to consolidate and replace existing PPH programs, with the goal of streamlining the PPH process for both offices and applicants. To that end, the USPTO and other offices established the Global PPH pilot program and the IP5 PPH pilot program. Both the Global PPH and IP5 PPH pilot programs are running concurrently and are substantially identical, differing only with regard to their respective participating offices. The USPTO participates in both the Global PPH pilot program and the IP5 PPH pilot program. For USPTO applications, the Global PPH and IP5 PPH pilot programs supersede any prior PPH program between the USPTO and each Global PPH and IP5 PPH participating office. Any existing PPH programs between the USPTO and offices that are not participating in either the Global PPH pilot program or the IP5 PPH pilot program remain in effect.

This information collection covers data gathered through the Request for Participation in the Patent Prosecution Highway (PPH) Pilot Program, which the public uses to request an accelerated examination within the PPH provisions.

The USPTO makes one change to the information published in the 60-Day Federal Register Notice to add a new item, form PTO/SB/20BH (Request for Participation in the Patent Prosecution Highway (PPH) Pilot Program Between the National Patent Office of Bahrain (NPOB) and the USPTO), due to the USPTO's decision to implement a PPH pilot program with the NPOB. The addition of this item results in an increase of 1 respondent, 1 response, and 2 hours to the estimated annual burden of this information collection.

Forms: (SB = Specimen Book)

• PTO/SB/20BH (Request for Participation in the Patent Prosecution Highway (PPH) Pilot Program Between the National Patent Office of Bahrain (NPOB) and the USPTO)

• PTO/SB/20BR (Request for Participation in the Patent Prosecution Highway (PPH) Pilot Program Between the Brazilian National Institute of Industrial Property (INPI) and the USPTO)

• PTO/SB/20CZ (Request for Participation in the Patent Prosecution Highway (PPH) Pilot Program Between the Industrial Property Office of the Czech Republic (IPOCZ) and the USPTO)

• PTO/SB/20FR (Request for Participation in the Patent Prosecution Highway (PPH) Pilot Program Between the National Institute of Industrial Property of France (INPI) and the USPTO)

• PTO/SB/20GLBL (Request for Participation in the Global/IP5 Patent Prosecution Highway (PPH) Pilot Program in the USPTO)

• PTO/SB/20MA (Request for Participation in the Patent Prosecution Highway (PPH) Pilot Program Between the Moroccan Office of Industrial and Commercial Property (OMPIC) and the USPTO)

• PTO/SB/20MX (Request for Participation in the Patent Prosecution Highway (PPH) Pilot Program Between the Mexican Institute of Industrial Property (IMPI) and the USPTO)

• PTO/SB/20MY (Request for Participation in the Patent Prosecution Highway (PPH) Pilot Program Between the Intellectual Property Corporation of Malaysia (MYIPO) and the USPTO)

• PTO/SB/20NI (Request for Participation in the Patent Prosecution Highway (PPH) Pilot Program Between the Nicaraguan Registry of Intellectual Property (NRIP) and the USPTO)

• PTO/SB/20PH (Request for Participation in the Patent Prosecution Highway (PPH) Pilot Program Between the Intellectual Property Office of the Philippines (IPOPH) and the USPTO)

• PTO/SB/20RO (Request for Participation in the Patent Prosecution Highway (PPH) Pilot Program Between the Romanian State Office for Inventions and Trademarks (OSIM) and the USPTO)

• PTO/SB/20SA (Request for Participation in the Patent Prosecution Highway (PPH) Pilot Program Between the Saudi Authority for Intellectual Property of the Kingdom of Saudi Arabia (SAIP) and the USPTO)

• PTO/SB/20TW (Request for Participation in the Patent Prosecution Highway (PPH) Pilot Program Between the Taiwan Intellectual Property Office (TIPO) and the USPTO)

Type of Review: Extension and revision of a currently approved information collection.

Affected Public: Private sector.

Respondent's Obligation: Required to obtain or retain benefits.

Frequency: On occasion.

Estimated Number of Annual Respondents: 8,586 respondents.

Estimated Number of Annual Responses: 8,586 responses.

Estimated Time per Response: The USPTO estimates that the responses in this information collection will take the public approximately 2 hours to complete. This includes the time to gather the necessary information, create the document, and submit the completed request to the USPTO.

Estimated Total Annual Respondent Burden Hours: 17,172 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0058.

Further information can be obtained by:

• Email: InformationCollection@uspto.gov. Include “0651-0058 information request” in the subject line of the message.

• Mail: Justin Isaac, Office of the Chief Administrative Officer, United States Patent and Trademark Office, P.O. Box 1450, Alexandria, VA 22313-1450.

Lisa Lawn,
Director, Records and Information Compliance Program Office, Office of the Chief Administrative Officer, United States Patent and Trademark Office.

[FR Doc. 2024-15933 Filed 7-18-24; 8:45 am]

BILLING CODE 3510-16-P